DEPARTMENT OF COMMERCE

Foreign-Trade Zones Board

[Docket 12-2010]

Foreign-Trade Zone 170 - Jeffersonville, Indiana, Application for Reorganization/Expansion Under Alternative Site Framework

An application has been submitted to the Foreign-Trade Zones (FTZ) Board (the Board) by the Ports of Indiana, grantee of Foreign-Trade Zone 170, requesting authority to reorganize the zone under the alternative site framework (ASF) adopted by the Board (74 FR 1170, 1/12/09; correction 74 FR 3987, 1/22/09). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u) and the regulations of the Board (15 CFR part 400). It was formally filed on February 22, 2010.

FTZ 170 was approved by the Board on December 27, 1990 (Board Order 495, 56 FR 673, 1/8/91) and expanded on July 23, 1997 (Board Order 907, 62 FR 40796, 7/30/97) and September 24, 2004 (Board Order 1355, 69 FR 58884, 10/1/04). The general-purpose zone currently consists of the following sites: Site 1: (993 acres) - Clark Maritime Center Complex on Utica Pike at Port Road, Jeffersonville; Site 2: (22 acres) - Clark County Airport between State Route 31 and the airport terminal, Sellersburg; and, Site 3: (2,000 acres) - within the 10,000 acre former Indiana Army Ammunition Plant at 11452 State Road 62, Charlestown, Clark County, Indiana.

The grantee's proposed service area under the ASF would be Jackson, Washington, Harrison, Floyd, Clark and Scott Counties. If approved, the grantee would be able to serve sites throughout the service area based on companies' needs for FTZ designation. The proposed service area is within and adjacent to the Louisville Customs and Border Protection port of entry.

The applicant is requesting authority to reorganize its existing zone project to include all of its sites as “magnet sites” and proposes that Site 1 be exempt from sunset time limits that otherwise apply to sites under the ASF. No usage-driven sites are being proposed at this time. In accordance with the Board's regulations, Claudia Hausler of the FTZ Staff is designated examiner to evaluate and analyze the facts and information presented in the application and case record and to report findings and recommendations to the Board.

Public comment is invited from interested parties. Submissions (original and 3 copies) shall be addressed to the Board's Executive Secretary at the address below. The closing period for their receipt is May 10, 2010. Rebuttal comments in response to material submitted during the foregoing period may be submitted during the subsequent 15-day period to May 25, 2010.

A copy of the application will be available for public inspection at the Office of the Executive Secretary, Foreign-Trade Zones Board, Room 2111, U.S. Department of Commerce, 1401 Constitution Avenue, NW, Washington, DC 20230-0002, and in the “Reading Room” section of the Board's website, which is accessible via www.trade.gov/ftz. For further information, contact Claudia Hausler at Claudia.Hausler@trade.gov or (202)482-1379.

Dated:February 22, 2010
Andrew McGilvray,
Executive Secretary.

[FR Doc. 2010-5293 Filed 3-10-10; 8:45 am]

BILLING CODE 3510-DS-S